DEPARTMENT OF VETERANS AFFAIRS

Advisory Committee on OIF/OEF Veterans and Families; Notice of Establishment

As required by Section 9(a)(2) of the Federal Advisory Committee Act, the Department of Veterans Affairs hereby gives notice of the establishment of the Department of Veterans Affairs (VA) Advisory Committee on OIF/OEF Veterans and Families. The Secretary of Veterans Affairs has determined that establishing the Committee is both necessary and in the public interest.

The Committee will provide advice to the Secretary of Veterans Affairs on the full spectrum of health care, benefits delivery and related family support issues that confront servicemembers during their transition from active duty to veterans' status and during their post-service years. The Committee will focus on the concerns of all men and women with active military service in Operation Iraqi Freedom and/or Operation Enduring Freedom, but will pay particular attention to severely disabled veterans and their families.

Committee members shall be appointed by the Secretary of Veterans Affairs and shall serve as objective advisors, and not as representatives of any organizations for whom they may otherwise be serving. The Committee shall report regularly to the Secretary of Veterans Affairs on its major activities and recommendations.

Dated: February 15, 2007.
By Direction of Secretary.
E. Philip Riggin,
Committee Management Officer.

[FR Doc. 07-863 Filed 2-23-07; 8:45 am]

BILLING CODE 8320-01-M